DEPARTMENT OF COMMERCE

National Telecommunications and Information Administration

Agency Information Collection Activities; Submission to the Office of Management and Budget (OMB) for Review and Approval; Comment Request; Middle Mile Grant Program

AGENCY: National Telecommunications and Information Administration (NTIA), Commerce.

ACTION: Notice of information collection, request for comment.

SUMMARY: The Department of Commerce, in accordance with the Paperwork Reduction Act of 1995 (PRA), invites the general public and other Federal agencies to comment on proposed and continuing information collections, which helps us assess the impact of our information collection requirements and minimize the public's reporting burden. The purpose of this notice is to allow for 60 days of public comment preceding the submission of the collection to OMB.

DATES: To ensure consideration, comments regarding this proposed information collection must be received on or before October 23, 2023.

ADDRESSES: Interested persons are invited to submit written comments by mail to Arica Cox, Deputy Director, Grants Management, Administration, and Compliance, Office of internet Connectivity and Growth, National Telecommunication and Information Administration, U.S. Department of Commerce, 1401 Constitution Avenue NW, Room 4626, Washington, DC 20230, or by email to broadbandusa@ntia.gov. Please reference OMB Control 0660-0052 in the subject line of your comments. Do not submit Confidential Business Information or otherwise sensitive or protected information.

FOR FURTHER INFORMATION CONTACT: Requests for additional information or specific questions related to collection activities should be directed to Arica Cox, Deputy Director, Grants Management Administration, and Compliance, Office of internet Connectivity and Growth, National Telecommunication and Information Administration, U.S. Department of Commerce, 1401 Constitution Avenue NW, Room 4626, Washington, DC 20230, via telephone at (202) 209-3011, or email at acox@ntia.gov; broadbandusa@ntia.gov.

SUPPLEMENTARY INFORMATION:

I. Abstract

NTIA seeks approval under the Paperwork Reduction Act (PRA) to add 11 questions regarding equipment purchases to the Enabling Middle Mile Broadband Infrastructure Program (Middle Mile) Bi-Annual Performance Reports (OMB No. 0660-0052). This collection of questions will be added to the Middle Mile Bi-Annual Performance Reports as a supplement referred to as the Middle Mile Reports Addendum.

The Middle Mile Grant Program, authorized by Section 60401 of the Infrastructure Investment and Jobs Act of 2021, Public Law 117-58, 135 Stat. 429 (November 15, 2021) (Infrastructure Act or Act), provides funding for the construction, improvement, or acquisition of middle mile infrastructure. The Middle Mile Grant Program will make up to $980,000,000 available for federal assistance to the following eligible entities: a State, political subdivision of a State, Tribal government, technology company, electric utility, utility cooperative, public utility district, telecommunications company, telecommunications cooperative, nonprofit foundation, nonprofit corporation, nonprofit institution, nonprofit association, regional planning council, Native entity, economic development authority, or any partnership of two (2) or more of these entities. The purpose of the grant program is to expand and extend middle mile infrastructure to reduce the cost of connecting areas that are unserved or underserved to the internet backbone.

On May 13, 2022, NTIA published the program's Notice of Funding Opportunity (NOFO) on internetforAll.gov to describe the requirements under which it will award grants for the Middle Mile Grant Program. See Enabling Middle Mile Broadband Infrastructure Program Notice of Funding Opportunity (NOFO) (May 13, 2022), https://www.internetforall.gov/program/enabling-middle-mile-broadband-infrastructure-program. The NOFO requires award recipients to submit bi-annual performance reports, financial reports, and a final report as a part of the grant close-out process. Award recipients must follow the reporting requirements described in Sections A.01, Reporting Requirement, of the Department of Commerce Financial Assistance Standard Terms and Conditions (dated November 12, 2020). Additionally, in accordance with 2 CFR part 170, all recipients of a federal award made on or after October 1, 2010, must comply with reporting requirements under the Federal Funding Accountability and Transparency Act of 2006 (Pub. L. 109-282).

Modifying the Middle Mile Bi-Annual Performance Reports and Final Report to include NTIA's requested questions regarding equipment purchases on the Middle Mile Report Addendum will enable the Commerce Department and NTIA to ensure recipient compliance with the Build America, Buy America Act (“BABA”) and facilitate NTIA's ability to collect data to comply with BABA reporting requirements. NTIA will also use the information collected to effectively administer and monitor the grant program to ensure the achievement of the Middle Mile Grant Program purposes and account for the expenditure of federal funds to deter waste, fraud, and abuse.

II. Method of Collection

Award recipients will submit the Middle Mile Reports Addendum as part of the Bi-Annual Performance Reports for the periods ending March 31st and September 30th of each year. NTIA will collect data through electronic submission.

The report addendum shall discuss the six-month period immediately preceding the report date, in a manner that:

(1) Lists the Buyer.

(2) Describes the Category of the Purchase.

(3) Describes where the Purchase will be located and how it will be used.

(4) Quantifies the number being purchased.

(5) Asks the country from which the Purchase is sourced.

(6) If a foreign source, describes the efforts made to source domestically.

(7) Lists the Manufacturer.

(8) Lists the Purchase Price.

(9) Lists the Purchase Date.

(10) Lists the Estimated Delivery Date.

(11) Lists the Actual Delivery Date.

Recipients must maintain sufficient records to substantiate all information above upon request.

III. Data

OMB Control Number: 0660-0052.

Form Number(s): TBD.

Type of Review: Revision of a current information collection.

Affected Public: Recipients of funding under the Middle Mile Grant Program. Recipients might include States, political subdivisions of a State, Tribal governments, technology companies, electric utilities, utility cooperatives, public utility districts, telecommunications companies, telecommunication cooperatives, nonprofit foundations, nonprofit corporations, nonprofit institutions, nonprofit associations, regional planning councils, Native entities, economic development authorities, or any partnership of two (2) or more of these entities.

Estimated Number of Respondents: 40.

Estimated Time per Response: 43.72 hours.

Estimated Total Annual Burden Hours: 7,621.17.

Estimated Total Annual Cost to Public: $363,758.29.

Respondent's Obligation: Mandatory.

Legal Authority: Section 60401of the Infrastructure Investment and Jobs Act of 2021, Public Law 117-58, 135 Stat. 429 (November 15, 2021).

IV. Request for Comments

We are soliciting public comments to permit the Department to:

(a) Evaluate whether the proposed information collection is necessary for the proper functions of the Department, including whether the information will have practical utility. (b) Evaluate the accuracy of our estimate of the time and cost burden for this proposed collection, including the validity of the methodology and assumptions used. (c) Evaluate ways to enhance the quality, utility, and clarity of the information to be collected. d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary of Economic Affairs, Commerce Department.

[FR Doc. 2023-18178 Filed 8-22-23; 8:45 am]

BILLING CODE 3510-60-P